DEPARTMENT OF THE INTERIOR

Bureau of Land Management

[NV-040-07-5101-ER-F344; N-78091; 08-08807; TAS:14X5017]

Notice of Availability of the Record of Decision for the White Pine Energy Station Final Environmental Impact Statement, Nevada

AGENCY: Bureau of Land Management, Interior.

ACTION: Notice of availability.

SUMMARY: The Bureau of Land Management (BLM) announces the availability of the Record of Decision (ROD) to authorize granting rights-of-way (ROWs) for the construction of the White Pine Energy Station and eventual disposal of the site, and for the construction and maintenance of ancillary facilities. All ROWs are located in the Egan Field Office management area in White Pine County, Nevada. The Ely District Manager has signed the ROD, which constitutes the final decision of the BLM.

DATES: The availability period for this decision will end January 21, 2009.

ADDRESSES: The ROD is available in printed copy or electronic file on compact disc on request from the BLM Manager, Egan Field Office, HC 33 Box 33500, Ely, NV 89301, or via the Internet at http://www.blm.gov/nv/st/en/fo/ely_field_office. Copies of the ROD are available for public inspection at the following locations:

— University of Nevada-Reno, Getchell Library, Government Publication Department, Reno, Nevada.

— Washoe County Library, 301 South Center Street, Reno, Nevada.

— White Pine County Library, 950 Campton Street, Ely, Nevada.

— Clark County Library, 1401 E. Flamingo Road, Las Vegas, Nevada.

A limited number of copies of the document will be available at the following BLM Nevada offices:

— Elko District Office, 3900 Idaho Street, Elko.

— Carson City District Office, 5665 Morgan Mill Road, Carson City.

— Ely District Office, 702 North Industrial Way, Ely.

— Nevada State Office, 1340 Financial Boulevard, Reno.

— Washington Office of Public Affairs, 18th and C Street NW., Washington, DC.

FOR FURTHER INFORMATION CONTACT: Doris Metcalf, 775-289-1852.

SUPPLEMENTARY INFORMATION: Three alternatives were analyzed in the final EIS:

(1) Proposed action located 20 miles north of McGill, Nevada;

(2) Alternative plant location, 10 miles north of McGill, Nevada; and

(3) No action alternative, which would be to not authorize the ROW.

The BLM has selected the Proposed Action as its final decision in the ROD. The ROD will approve granting ROWs as described in the Proposed Action including: A coal-fired power plant site ROW and subsequent sale of the 1,281 acre power plant site to the proponent; transmission line alignment and substation ROWs; well field and water line ROWs; a railroad spur ROW; and access road ROWs. Various site-specific, applicant-committed mitigation measures will be implemented at the development stage to protect other resources and uses. Comments on the White Pine Energy Station Draft Environmental Impact Statement (EIS) received from the public and cooperating agencies were addressed in the Final EIS. The comments resulted in text modifications and the addition of new data used in the analysis of impacts in the Final EIS. The ROD for this project addresses only BLM's decisions for public lands and resources administered by BLM.

John F. Ruhs,
District Manager, Ely District Office.

[FR Doc. E8-30430 Filed 12-19-08; 8:45 am]

BILLING CODE 4310-HC-P